DEPARTMENT OF HOUSING AND URBAN DEVELOPMENT

[Docket No. FR-5480-N-29]

Notice of Submission of Proposed Information Collection to OMB Brownfields Economic Development Initiative (BEDI) Grant Application

AGENCY: Office of the Chief Information Officer, HUD.

ACTION: Notice.

SUMMARY: The proposed information collection requirement described below has been submitted to the Office of Management and Budget (OMB) for review, as required by the Paperwork Reduction Act. The Department is soliciting public comments on the subject proposal.

BEDU we designed to help local governments redevelop brownfields, defined in the NOFA as abandoned, idled, or underutilized real property, including industrial and commercial facilities, where expansion or redevelopment is complicated by the presence or potential presence of environmental contamination.

DATES: Comments Due Date: April 29, 2011.

ADDRESSES: Interested persons are invited to submit comments regarding this proposal. Comments should refer to the proposal by name and/or OMB approval Number (2506-0153) and should be sent to: HUD Desk Officer, Office of Management and Budget, New Executive Office Building, Washington, DC 20503; e-mail OIRA-Submission@omb.eop.gov; fax: 202-395-5806.

FOR FURTHER INFORMATION CONTACT: Colette Pollard, Reports Management Officer, QDAM, Department of Housing and Urban Development, 451 Seventh Street, SW., Washington, DC 20410; e-mail Colette Pollard at Colette.Pollard@hud.gov; or telephone (202) 402-3400. This is not a toll-free number. Copies of available documents submitted to OMB may be obtained from Ms. Pollard.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Brownfields Economic Development Initiative (BEDI) Grant Application.

OMB Approval Number: 2506-0153.

Form Numbers: HUD—40122—State Certifications Related to Nonentitlement; HUD—40123—Brownfields Economic Development Application, SF 424—Application for Federal Assistance; SF 424Sup—Survey for Ensuring Equal Opportunities, SF LLL—Disclosure of Lobbying Activities, SF 424—A—Federal Financial Report; HUD 2880—Applicant/Recipient Disclosure Updated Report; HUD 2991—Certification of Consistency with Consolidated Plan; HUD 96010—Logic Mode;, SF 1199A—Direct Deposit Sign Up Form; HUD 27054—LOCCS Voice Response System Access Authorization; HUD 27054A—LOCCS Access Authorization Security Form; HUD 27061—Racial and Ethnic Data Reporting Form; HUD 60002—Economic Opportunity for Low- and Very Low-Income Persons In Connection with Assisted Projects; Federal Funding Accountability and Transparency Act (FFATA) Subrecipient Reporting; Federal Awardees Performance and Integrity information System Reporting (FAPIIS); Consolidated Annual Performance Evaluation Report (CAPER).

Description of the Need For the Information and its Proposed Use:

BEDU we designed to help local governments redevelop brownfields, defined in the NOFA as abandoned, idled, or underutilized real property, including industrial and commercial facilities, where expansion or redevelopment is complicated by the presence or potential presence of environmental contamination.

Frequency of Submission: On occasion, Semi-annually, Annually.

| Number of respondents | Annual responses | × | Hours per response | = | Burden hours
Reporting Burden | 38 | 1 |  | 33.157 |  | 1,260

Total Estimated Burden Hours: 1,260.

Status: Extension of a currently approved collection.

Authority: Section 3507 of the Paperwork Reduction Act of 1995, 44 U.S.C. 35, as amended.

Dated: March 23, 2011.
Colette Pollard,
Departmental Reports Management Officer, Office of the Chief Information Officer.

[FR Doc. 2011-7402 Filed 3-29-11; 8:45 am]

BILLING CODE 4210-67-P